DEPARTMENT OF HEALTH AND HUMAN SERVICES

National Institutes of Health

National Institute of Mental Health; Noice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Mental Health Special Emphasis Panel National Latino and Asian American Study Cooperative Agreements.

Date: March 7, 2005.

Time: 8 a.m. to 6 p.m.

Agenda: To review and evaluate cooperative agreement applications.

Place: Hyatt Regency Bethesda, One Bethesda Metro Center, 7400 Wisconsin Avenue, Bethesda, MD 20814.

Contact Person: Mary E. Farmer, MD, MPH, Scientific Review Administrator, Neuroscience Center, 6001 Executive Boulevard, Room 7191, Bethesda, MD 20892-9643, (301) 443-9869, MFARMER@NIH.GOV.

Name of Committee: National Institute of Mental Health Special Emphasis Panel ITV Conflicts.

Date: March 8, 2005.

Time: 1 p.m. to 3 p.m.

Agenda: To review and evaluate grant applications.

Place: National Institutes of Health, Neuroscience Center, 6001 Executive Boulevard, Rockville, MD 20852, (Telephone Conference Call).

Contact Person: David I. Sommers, PhD, Scientific Review Administrator, Division of Extramural Activities, National Institute of Mental Health, NIH, Neuroscience Center, 6001 Executive Blvd., Room 6144, MSC 9606, Bethesda, MD 20892-9608, (301) 443-7861, dsommers@mail.nih.gov.

Name of Committee: National Institute of Mental Health Special Emphasis Panel, Translational Research and Career Awards in Mental Health.

Date: March 8, 2005.

Time: 1 p.m. to 4 p.m.

Agenda: To review and evaluate grant applications.

Place: National Institutes of Health, Neuroscience Center, 6001 Executive Boulevard, Rockville, MD 20852, (Telephone Conference Call).

Contact Person: Bettina D. Acuna, PhD, Scientific Review Administrator, Division of Extramural Activities, National Institute of Mental Health, NIH, Neuroscience Center, 6001 Executive Blvd., Room 6143, MSC 9608, Bethesda, MD 20892-9608, (301) 443-1178, acunab@mail.nih.gov.

Name of Committee: National Institute of Mental Health Special Emphasis Panel, Psychostimulants.

Date: March 9, 2005.

Time: 9 a.m. to 5 p.m.

Agenda: To review and evaluate grant applications.

Place: Summerfield Suites by Wyndham, 200 Skidmore Boulevard, Gaithersburg, MD 20877.

Contact Person: Yong Yao, PhD, Scientific Review Administrator, Division of Extramural Activities, National Institute of Mental Health, NIH, Neuroscience Center, 6001 Executive Blvd., Room 6149, MSC 9606, Bethesda, MD 20892-9606, 301-443-6102, yyao@mail.nih.gov.

Name of Committee: National Institute of Mental Health Special Emphasis Panel Conte Centers for Schizophrenia.

Date: March 10-11, 2005.

Time: 8:30 a.m. to 5 p.m.

Agenda: To review and evaluate grant applications.

Place: Summerfield Suites by Wyndham, 200 Skidmore Boulevard, Gaithersburg, MD 20877.

Contact Person: Peter J. Sheridan, PhD, Scientific Review Administrator, Division of Extramural Activities, National Institute of Mental Health, NIH, Neuroscience Center, 6001 Executive Blvd., Room 6142, MSC 9606, Bethesda, MD 20892-9606, 301-443-1513, psherida@mail.nih.gov.

Name of Committee: National Institute of Mental Health Special Emphasis Panel Conte Centers for Neuroscience Research.

Date: March 10-11, 2005.

Time: 9 a.m. to 6 p.m.

Agenda: To review and evaluate grant applications.

Place: Holiday Inn Select Bethesda, 8120 Wisconsin Ave, Bethesda, MD 20814.

Contact Person: Bettina D. Acuna, PhD, Scientific Review Administrator, Division of Extramural Activities, National Institute of Mental Health, NIH, Neuroscience Center, 6001 Executive Blvd., Room 6143, MSC 9608, Bethesda, MD 20892-9608, 301-443-1178, acunab@mail.nih.gov.

Name of Committee: National Institute of Mental Health Special Emphasis Panel HIV Medication Adherence.

Date: March 11, 2005.

Time: 8:30 a.m. to 5 p.m.

Agenda: To review and evaluate grant applications.

Place: Holiday Inn Select Bethesda, 8120 Wisconsin Ave, Bethesda, MD 20814.

Contact Person: Fred Altman, PhD, Scientific Review Administrator, National Institute of Mental Health, Neuroscience Center, 6001 Executive Blvd., Room 6220, MSC 9621, Bethesda, MD 20892-9621, 301-443-8962, faltman@mail.nih.gov.

Name of Committee: National Institute of Mental Health Special Emphasis Panel Center Application Review.

Date:March 14, 2005.

Time: 8:30 a.m. to 5 p.m.

Agenda: To review and evaluate grant applications.

Place: Ritz-Carlton Hotel at Pentagon City, 1250 South Hayes Street, Arlington, VA 22202.

Contact Person: Christopher S. Sarampote, PhD, Scientific Review Administrator, Division of Extramural Activities, National Institute of Mental Health, NIH, Neuroscience Center, 6001 Executive Blvd., Room 6148, MSC 9608, Bethesda, MD 20892-9608, 301-443-1959, csarampo@mail.nih.gov.

(Catalogue of Federal Domestic Assistance Program Nos. 93.242, Mental Health Research Grants; 93.281, Scientist Development Award, Scientist Development Award for Clinicians, and Research Award; 93.282, Mental Health National Research Service Awards for Research Training, National Institutes of Health, HHS).
Dated: February 10, 2005.
LaVerne Y. Stringfield,
Director, Office of Federal Advisory Committee Policy.

[FR Doc. 05-3158 Filed 2-17-05; 8:45 am]

BILLING CODE 4140-01-M